HARRY S. TRUMAN SCHOLARSHIP FOUNDATION

Sunshine Act Meeting; Meeting of the Trustees and Officers of the Harry S. Truman Scholarship Foundation

November 16, 2006, 3 p.m.-5 p.m. Rayburn House Office Building, Room 2216.

I. Welcome and Opening Comments.

II. Approval of the Minutes of the Meeting of November 8, 2005.

III. Report from the President.

IV. Report from the Executive Secretary.

V. Report on 2006 Summer Institute, 2006/2007 Truman Fellows Program.

VI. Approval of Budget for FY 2007.

VII. Old Business.

VIII. New Business.

IX. Adjournment.

Frederick G. Slabach,
Executive Secretary.

[FR Doc. 06-8526 Filed 10-3-06; 9:49 am]

BILLING CODE 6820-AD-P